DEPARTMENT OF HOMELAND SECURITY

[Docket No. DHS-2008-0070]

Homeland Security Science and Technology Advisory Committee

AGENCY: Science and Technology Directorate, DHS.

ACTION: Committee Management; Notice of Open Federal Advisory Committee Meeting.

SUMMARY: The Homeland Security Science and Technology Advisory Committee will meet July 15, 2008, at 1120 Vermont Avenue, NW., in Washington, DC.

DATES: The Homeland Security Science and Technology Advisory Committee will meet July 15, 2008, from 9 a.m. to 12 p.m. The mission of the Committee is to be a source of independent, scientific and technical planning advice for the Under Secretary for Science and Technology. The duties of the committee are solely advisory.

The committee will meet for the purpose of discussing last year's Improvised Explosive Device study, and current committee efforts, and to solicit input from attendees on future efforts.

ADDRESSES: The meeting will be held at 1120 Vermont Avenue, NW., Washington, DC. Requests to have written material distributed to each member of the committee prior to the meeting should reach the contact person at the address below by July 7, 2008. Send written material to Ms. Deborah Russell, Science and Technology Directorate, Department of Homeland Security, 245 Murray Drive, Bldg. 410, Washington, DC 20528. Comments must be identified by DHS-2008-0070 and may be submitted by one of the following methods:

• Federal eRulemaking Portal: http://www.regulations.gov. Follow the instructions for submitting comments.

• E-mail: HSSTAC@dhs.gov. Include the docket number in the subject line of the message.

• Fax: 202-254-6173.

• Mail: Ms. Deborah Russell, Science and Technology Directorate, Department of Homeland Security, 245 Murray Drive, Bldg. 410, Washington, DC 20528.

Instructions: All submissions received must include the words “Department of Homeland Security” and the docket number for this action. Comments received will be posted without alteration at http://www.regulations.gov, including any personal information provided.

Docket: For access to the docket to read background documents or comments received by the Homeland Security Science and Technology Advisory Committee, go to http://www.regulations.gov.

FOR FURTHER INFORMATION CONTACT: Ms. Deborah Russell, Science and Technology Directorate, Department of Homeland Security, 245 Murray Drive, Bldg. 410, Washington, DC 20528 202-254-5739.

SUPPLEMENTARY INFORMATION: Notice of this meeting is given under the Federal Advisory Committee Act, 5 U.S.C. App. (Pub. L. 92-463).

Public Attendance: Due to meeting space restrictions, the maximum number of public attendees will be 20. Members of the public will be registered to attend the public session on a first-come, first-served basis per the procedures that follow. Any member of the public who wishes to attend the public session must provide his or her name, citizenship and affiliation no later than 5 p.m. EST, Wednesday, July 9, 2008. Please provide the required information to Deborah Russell via phone at 202-254-5739. Persons with disabilities who require special assistance should indicate so in their admittance request. Photo identification will be required for entry into the public session, and everyone in attendance must be present and seated by 9 a.m. on July 15, 2008.

Bradley Buswell,
Deputy Under Secretary for Science and Technology.

[FR Doc. E8-15448 Filed 7-7-08; 8:45 am]

BILLING CODE 4410-10-P